DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on June 30, 2014 (79 FR 36865-36867).

DATES: Comments must be submitted on or before January 14, 2015.

ADDRESSES: Send comments, within 30 days, to the Office of Information and Regulatory Affairs, Office of Management and Budget, 725-17th Street NW., Washington, DC 20503, Attention NHTSA Desk Officer.

FOR FURTHER INFORMATION CONTACT: Ms. Liza Lemaster-Sandbank, Contracting Officer's Representative, Occupant Protection Division (NTI-112), Office of Impaired Driving and Occupant Protection, National Highway Traffic Safety Administration, 1200 New Jersey Avenue SE., W44-302, Washington, DC 20590. Ms. Lemaster-Sandbank's phone number is 202-366-4292 and her email address is liza.lemaster@dot.gov.

SUPPLEMENTARY INFORMATION:

Title: Implementing a Leadership Framework for Traffic Safety.

Type of Request: New information collection requirement.

Abstract: In 2012, there were 21,667 occupants of passenger vehicles who died in motor vehicle traffic crashes. Of the occupants for whom restraint status was known, 52% were unrestrained at the time of the crash. Research shows that wearing a seatbelt or using a child safety seat can greatly reduce the chances of fatal or serious injury as a result of a motor vehicle collision. High visibility enforcement (i.e., highly visible enforcement accompanied by public information supporting the enforcement) has been demonstrated to increase seat belt use. A NHTSA-convened work group of law enforcement representatives from states with secondary seat belt laws, but exemplary work in support of occupant protection enforcement, identified strong leadership as the critical component in their successes. Strong leadership within any law enforcement agency can result in various practices and methodologies that spotlight a program's importance and help to make occupant protection, as well as other traffic safety issues, an integral part of the agencies' culture. Regardless of whether the occupant protection program is organized as a specialized unit or broadly integrated within the routine operations of the law enforcement agency, key management and enforcement roles must be clearly defined and assigned to specific individuals by the executive staff.

NHTSA is undertaking a study to implement a leadership model framework within three law enforcement agencies selected by NHTSA, evaluate the process and determine if the traffic safety outcome of interest is realized, specifically the impact on increased seat belt use and reduction in unrestrained fatalities. To accomplish this, NHTSA will provide technical assistance to three law enforcement demonstration communities for the implementation of leadership frameworks in support of safety initiatives, specifically occupant protection. Evaluation measures will involve the independent identification, collection and evaluation of both qualitative and quantitative data that specifically document changes in enforcement activity and its effects on the surrounding communities' behaviors. Under this proposed effort, a total of 108 interviews of law enforcement personnel will be conducted over two time periods. Eighteen interviews will be conducted in each of the three demonstration sites, once during the demonstration implementation and once at the end of the demonstration project. Overall findings will be provided to other law enforcement agencies to use as a resource for improving occupant protection enforcement programs and efforts.

Affected Public: Interviewees will represent law enforcement leadership as well as line officers. Law enforcement leadership participants will include the top management in the agency (colonel, chief, etc.). The interviewees will either be self-selected or selected by the demonstration agency. The demonstration agency will have the best insights into individuals who best represent these three types for inclusion into the study and will assist in announcements of interview participation opportunities as well as scheduling that is amenable to particular interviewees. NHTSA's contractor will work closely with the demonstration communities (well in advance of data collection) to provide them with the information they need to select interviewees who can provide the best data for the study. This will ensure that the right people are selected, have ample time to be provided information about the study, and are able to be replaced with another suitable participant if they choose not to participate. To get volunteers, the contractor will provide information to the demonstration sites about what types of volunteers they are seeking, but will ultimately rely on each site to disseminate that information to officers. If officers do not volunteer for interviews, the contractor will work with the site to explore additional ways of disseminating information about the interviews and/or encouraging participation; if necessary, the site will be asked to select additional participants for interviews.

Estimated Total Annual Burden: 135 hours (108 interviews, averaging 1.25 hours).

Comments are invited on the following:

(i) Whether the proposed collection of information is necessary for the proper performance of the functions of the agency, including whether the information will have practical utility;

(ii) the accuracy of the agency's estimate of the burden of the proposed information collection;

(iii) ways to enhance the quality, utility, and clarity of the information to be collected; and

(iv) ways to minimize the burden of the collection of information on respondents, including the use of automated collection techniques or other forms of information technology.

A comment to OMB is most effective if OMB receives it within 30 days of publication.

Authority: 44 U.S.C. Section 3506(c)(2)(A).

Issued on: December 9, 2014.
Jeff Michael,
Associate Administrator, Research and Program Development.

[FR Doc. 2014-29300 Filed 12-12-14; 8:45 am]

BILLING CODE 4910-59-P